DEPARTMENT OF COMMERCE

National Oceanic and Atmospheric Administration

[I.D. 030603F]

Proposed Information Collection; Comment Request; Highly Migratory Species Dealer Reporting Family of Forms

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before May 12, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Dianne Stephan, Highly Migratory Species Division, Northeast Regional Office, National Marine Fisheries Service, 1 Blackburn Dr., Gloucester, MA 01930; phone (978) 281-9397.

SUPPLEMENTARY INFORMATION:

I. Abstract

Under the provisions of the Magnuson-Stevens Fishery Conservation and Management Act (16 U.S.C. 1801 et seq.), NOAA is responsible for management of the Nation's marine fisheries. In addition, NOAA must comply with the United States' obligations under the Atlantic Tunas Convention Act (16 U.S.C. 971 et seq.). NOAA Fisheries must collect domestic landings data for Atlantic highly migratory species via dealer reports in order to provide information vital for fishery management. In addition, the import, export, and re-export of bluefin tuna, bigeye tuna and swordfish must be monitored by the United States in order to comply with international obligations established through membership in the International Commission for the Conservation of Atlantic Tunas (ICCAT). ICCAT has implemented a trade monitoring program for bluefin tuna, bigeye tuna and swordfish to discourage illegal, unregulated and unreported fishing activities as well as further understanding of catches and international trade for these species.

This collection will serve as an umbrella, or family of forms, for Atlantic highly migratory species dealer reporting requirements. Four activities will occur as a result of this action: (1) new reporting requirements will be implemented;

(2) previously approved information collections will be modified and transferred into this collection; (3) previously-approved collections will be renewed; and (4) reporting requirements will be transferred to this collection without modification.

New reporting requirements will be implemented in order to execute recent binding recommendations of ICCAT. Newly required bigeye tuna statistical documents and re-export certificates and document validation upon export will be added to this collection, along with swordfish and bluefin tuna re-export certificates, which must be validated prior to export.

The swordfish import certificate of eligibility will be transferred from collection approval 0648-0363 and expanded into a swordfish statistical document required for import and export of this species; the document must be validated prior to export. The swordfish import biweekly reporting form will be moved from collection approval 0648-0013 and modified to address bigeye tuna and swordfish imports, exports, and re-exports.

The required use of bluefin tuna statistical documents in the international trade of bluefin tuna will be renewed by this action, along with validation of these forms prior to export (0648-0040).

Finally, the HMS domestic biweekly landings report and associated negative reporting used by the southeast region of NOAA Fisheries will be incorporated from collection approval 0648-0013, and the bluefin tuna tagging, daily landing and biweekly reports will be incorporated from collection approval 0648-0239, both without modification.

II. Method of Collection

Dealer reporting for domestic purchase and international trade of certain Atlantic and Pacific highly migratory species is covered by this collection. Specifically, this collection addresses dealer reporting for import, export and re-export of Atlantic and Pacific swordfish, bigeye, and bluefin tuna; and domestic purchase of Atlantic tunas, Atlantic swordfish, and Atlantic sharks.

Under this collection, dealers who import, export, or re-export bluefin tuna, bigeye tuna or swordfish must report all transactions to NOAA on biweekly reporting forms which may be mailed or faxed. Species-specific statistical documents for export must be completed and transferred with the shipment, with copies mailed or faxed to NOAA. Original statistical documents for imports terminated in the U.S. must be mailed to NOAA Fisheries. When bluefin tuna, bigeye tuna, or swordfish are re-exported, a re-export certificate must be completed and transferred with the shipment with copies provided to NOAA Fisheries. Shipments for export and/or re-export must be validated through certification by a government official or government-approved validating institution or alternatively fish carcasses may be tagged by the dealer prior to export.

For domestically-landed Atlantic bluefin tuna, dealers must tag each individual carcass with a tail tag and fax a landing card within 24 hours after landing to NOAA Fisheries. Biweekly reports recording fish size and tag number must be submitted by fax or mail. Dealers along the Atlantic and Gulf coasts must also submit biweekly reports recording domestically-landed bigeye tuna, albacore tuna, yellowfin tuna, skipjack tuna, swordfish, and sharks caught from the Atlantic Ocean or Gulf of Mexico.

III. Data

OMB Number: 0648-0040.

Form Number: None.

Type of Review: Regular submission.

Affected Public: Business or other for-profit organizations.

Estimated Number of Respondents: 2,110.

Estimated Time Per Response: 5 minutes each for statistical documents and re-export certificates; 1 minute for tagging; 2 hours for certification; 17 minutes for bigeye tuna/swordfish trade biweekly report; 15 minutes for Southeast Region HMS dealer report; 3 minutes for Southeast Region HMS dealer negative reporting; 8 minutes for Pacific bluefin tuna biweekly dealer report; 15 minutes for Atlantic BFT biweekly dealer report; 2 minutes for landing cards.

Estimated Total Annual Burden Hours: 44,324.

Estimated Total Annual Cost to Public: $20,262.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 5, 2003.
Gwellnar Banks,
Management Analyst, Office of the Chief Information Officer.

[FR Doc. 03-5901 Filed 3-11-03; 8:45 am]

BILLING CODE 3510-22-S